DEPARTMENT OF COMMERCE

Bureau of Export Administration

Exception to Reporting Requirement Under the Import Certificate/ Delivery Verification Procedures

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 19, 2000.

ADDRESSES: Direct all written comments to Linda Engelmeier, Departmental Forms Clearance Officer, Department of Commerce, Office of the Chief Information Officer, Room 5027, 14th and Constitution Avenue, NW, Washington DC 20230.

FOR FURTHER INFORMATION CONTACT: Requests for additional information or copies of the information collection instrument(s) and instructions should be directed to Dawnielle Battle, BXA ICB Liaison, Department of Commerce, Office of Planning, Evaluation and Management, Room 6881, 14th & Constitution Avenue, NW, Washington, DC 20230.

SUPPLEMENTARY INFORMATION:

I. Abstract

The U.S. and participating countries have agreed to establish Import Certificate (IC) and Delivery Verification (DV) requirements to help control the disposition of strategically important commodities. To comply with the commitment, BXA requires exporters to obtain IC documentation from foreign importers prior to submitting an export license application. BXA may also require a DV Certification which is a confirmation from the government to which the export has been made that the commodity is accounted for by the importer. This reporting requirement allows exporters to request an exception to the import certificate (or its equivalent) and requests for exceptions to the delivery verification procedures.

II. Method of Collection

Written submission.

III. Data

OMB Number: 0694-0001.

Form Number: None.

Type of Review: Regular submission for extension of a currently approved collection.

Affected Public: Individuals, businesses or other for-profit and not-for-profit institutions.

Estimated Number of Respondents: 21.

Estimated Time Per Response: .5 hours per response.

Estimated Total Annual Burden Hours: 11.

Estimated Total Annual Cost to Public: No start-up capital expenditures.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: April 13, 2000.
Linda Engelmeier,
Departmental Forms Clearance Officer, Office of Chief Information Officer.

[FR Doc. 00-9783 Filed 4-18-00; 8:45 am]

BILLING CODE 3510-33-P